DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Vessel Monitoring System for Atlantic Highly Migratory Species.

Form Number(s): None.

OMB Approval Number: 0648-0372.

Type of Request: Regular submission.

Burden Hours: 1,567.

Number of Respondents: 329.

Average Hours Per Response: VMS installation: 4 hours; installation checklist: 5 minutes; annual VMS maintenance: 2 hours; VMS transmissions: 0.3 seconds.

Needs and Uses: Vessels fishing for Atlantic tuna and swordfish that use pelagic longline gear and vessels fishing for sharks with bottom longline or gillnet gear are required to install and operate vessel monitoring systems. Automatic position reports are submitted on an hourly basis whenever the vessel is at sea. NMFS proposes to revise the current requirements to add an installation checklist that vessel operators would follow and then submit to NMFS. The checklist provides information on the hardware and communications service selected by each vessel. NMFS will use the returned checklists to ensure that position reports are received and to aid NMFS in troubleshooting problems.

Affected Public: Business or other for-profit organizations.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 10, 2006.
Gwellnar Banks,
Management Analyst, Office of the Chief Information Officer.

[FR Doc. E6-3767 Filed 3-15-06; 8:45 am]

BILLING CODE 3510-22-P